NUCLEAR REGULATORY COMMISSION

[Docket Nos. 50-344 and 72-17]

In the Matter of Portland General Electric Company (Trojan Nuclear Plant and ISFSI); Order Approving Application Regarding Proposed Purchase of Portland General Electric Company by Sierra Pacific Resources

I

Portland General Electric Company (PGE or the licensee) owns a 67.5 percent interest in the Trojan Nuclear Plant (TNP) located on the west bank of the Columbia River in Columbia County, Oregon, and in connection with that interest holds Facility Operating License No. NPF-1 issued by the U.S. Nuclear Regulatory Commission (NRC) pursuant to part 50 of Title 10 of the Code of Federal Regulations (10 CFR part 50) on November 21, 1975. Under this license, PGE has the authority to possess and maintain but not operate TNP. PGE also owns a 100 percent interest in the Trojan Independent Spent Fuel Storage Installation (ISFSI) and holds Materials License No. SNM-2509 for the Trojan ISFSI. PGE is currently a wholly owned subsidiary of Enron Corporation (Enron). PacifiCorp and the Eugene Water and Electric Board own the remaining 2.5 percent and 30 percent interests, respectively, in TNP, but are not involved in the transaction described below affecting PGE, which is the subject of this Order.

II

By application dated January 13, 2000, as supplemented by a submittal dated January 20, 2000 (collectively herein the application), PGE requested approval of an indirect transfer of the license for the TNP, to the extent held by PGE, and an indirect transfer of the license for the Trojan ISFSI. The requested transfer relates to a proposed purchase of all the issued and outstanding common stock of PGE from PGE's current parent, Enron, by Sierra Pacific Resources (SPR). PGE is an Oregon corporation engaged principally in the generation, transmission, distribution, and sale of electric energy in Oregon.

On November 5, 1999, Enron and SPR entered into a Stock Purchase Agreement providing for the purchase by SPR from Enron of all of the issued and outstanding common stock of PGE, subject to certain conditions, including the approval of the NRC. SPR, a Nevada corporation, is the parent holding company for Nevada Power Company and Sierra Pacific Power Company, providing electric service to approximately 843,000 customers throughout Nevada and northeastern California. The purchase will not affect PGE's status as a regulated public electric utility in the State of Oregon. No direct transfer of the TNP or ISFSI licenses will occur. Also, no changes to activities under the licenses or to the licenses themselves are being proposed in the application.

Approval of the indirect transfer was requested pursuant to 10 CFR 50.80 and 10 CFR 72.50. Notice of the application for approval and an opportunity for a hearing was published in the Federal Register on May 12, 2000 (65 FR 30642). No hearing requests were filed.

Under 10 CFR 50.80 and 10 CFR 72.50, no license, or any right thereunder, shall be transferred, directly or indirectly, through transfer of control of the license, unless the Commission gives its consent in writing. Upon review of the information in the application, and other information before the Commission, the NRC staff has determined that SPR's proposed acquisition of PGE through the stock purchase by SPR will not affect the qualifications of PGE as a holder of Facility Operating License No. NPF-1 and as the holder of Materials License No. SNM-2509, and that the indirect transfer of the licenses, to the extent effected by the proposed acquisition, is otherwise consistent with applicable provisions of law, regulations, and orders issued by the Commission, subject to the conditions set forth herein. These findings are supported by a safety evaluation dated July 27, 2000.

III

Accordingly, pursuant to sections 161b, 161i, 161o, and 184 of the Atomic Energy Act of 1954, as amended, 42 U.S.C. 2201(b), 2201(i), 2201(o), and 2234, 10 CFR 50.80, and 10 CFR 72.50, It is hereby ordered that the application regarding the indirect license transfers referenced above is approved, subject to the following conditions:

(1) PGE shall provide the Director of the Office of Nuclear Reactor Regulation and the Director of the Office of Nuclear Material Safety and Safeguards a copy of any application, at the time it is filed, to transfer (excluding grants of security interests or liens) from PGE to its parent, or to any other affiliated company, facilities for the production, transmission, or distribution of electric energy having a depreciated book value exceeding ten percent (10%) of PGE's consolidated net utility plant, as recorded on its books of account.

(2) Should the proposed stock purchase not be completed by June 30, 2001, this Order shall become null and void, provided, however, upon application and for good cause shown, such date may be extended.

IV

This Order is effective upon issuance.

For further details with respect to this Order, see the initial application dated January 13, 2000, the supplement thereto dated January 20, 2000, and the safety evaluation dated July 27, 2000, which are available for public inspection at the Commission's Public Document Room, the Gelman Building, 2120 L Street NW., Washington DC, and accessible electronically through the ADAMS Public Electronic Reading Room link at the NRC Web site (http://www.nrc.gov).

Dated at Rockville, Maryland, this 27th day of July 2000.
For the Nuclear Regulatory Commission.
William F. Kane,
Director, Office of Nuclear Material Safety and Safeguards.
Samuel J. Collins,
Director, Office of Nuclear Reactor Regulation.

[FR Doc. 00-19575 Filed 8-1-00; 8:45 am]

BILLING CODE 7590-01-P